GOVERNMENT ACCOUNTABILITY OFFICE

Appointments to the Medicare Payment Advisory Commission (MedPAC)

AGENCY: Government Accountability Office (GAO).

ACTION: Notice of appointments.

SUMMARY: The Balanced Budget Act of 1997 established the Medicare Payment Advisory Commission (MedPAC) and gave the Comptroller General responsibility for appointing its members. This notice announces the appointment of three new members and the reappointment of two existing members.

DATES: Appointments are effective May 1, 2014.

ADDRESSES:

GAO: 441 G Street NW., Washington, DC 20548.

MedPAC: 601 New Jersey Avenue NW., Suite 9000, Washington, DC 20001.

FOR FURTHER INFORMATION CONTACT:

GAO: Office of Public Affairs, (202) 512-4800.

MedPAC: Mark E. Miller, Ph.D., (202) 220-3700.

SUPPLEMENTARY INFORMATION: To fill this year's vacancies I am announcing the following:

Newly appointed members are Kathy Buto, MPA; Francis “Jay” Crosson, MD, Group Vice President, American Medical Association in Chicago, Illinois; and Warner Thomas, MBA, President and CEO of the Ochsner Health System in New Orleans, Louisiana. Their terms will expire in April 2017.

The reappointed members, whose terms will also expire in April 2017, are Willis D. Gradison, Jr., MBA, formerly a Scholar in Residence in the Health Sector Management Program at Duke University's Fuqua School of Business, and William J. Hall, MD, Director of the Center for Healthy Aging at the University of Rochester School of Medicine.

In addition, Commissioner Jon B. Christianson, Ph.D., Professor in the Division of Health Policy and Management at the School of Public Health at the University of Minnesota in Minneapolis has been designated as Vice Chair of the Commission. [42 U.S.C. 1395b-6.]

Gene L. Dodaro,
Comptroller General of the United States.

[FR Doc. 2014-14500 Filed 6-20-14; 8:45 am]

BILLING CODE 1610-02-M